DEPARTMENT OF HEALTH AND HUMAN SERVICES

Centers for Disease Control and Prevention

[30 Day-15-15ANC]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Formative and Summative Evaluation of the National Diabetes Prevention Program—Existing Collection Without an OMB Control Number—National Center for Chronic Disease Prevention and Health Promotion (NCCDPHP), Centers for Disease Control and Prevention (CDC).

Background and Brief Description

Findings from randomized controlled trials and translation studies have demonstrated that type 2 diabetes can be prevented or delayed in those at high risk through a structured lifestyle intervention that can be delivered cost effectively in real-world settings. However, several challenges must be addressed to achieve large-scale adoption and implementation of these evidence-based lifestyle change programs.

In response to these challenges, Congress authorized the CDC to establish and lead the National Diabetes Prevention Program (National DPP). CDC developed a year-long, evidence-based lifestyle change program aimed at increasing knowledge and awareness of healthy eating and physical activity among people at-risk for diabetes. In order to bring this compelling intervention to communities across America, CDC funded six grantees under Funding Opportunity Number: DP12-1212PPHF12 to establish and expand “a network of structured, evidence-based lifestyle change programs designed to prevent type 2 diabetes among people at high risk”.

The six National DPP grantees offer the program consistent with the CDC's Diabetes Prevention Recognition Program (DPRP) Standards. The National DPP grantees deliver the intervention through an estimated 110 sites. Grantees are responsible for scaling and sustaining the National DPP by:

• Increasing the number of delivery sites,

• developing delivery sites' capacity to obtain and maintain DPRP recognition,

• gaining sustainable support for delivery sites from insurance companies in the form of reimbursement, and

• actively educating employers and insurance companies about the cost effectiveness of including the lifestyle change program as a covered health benefit and reimbursing delivery sites on a pay-for-performance basis.

CDC proposes to assess program implementation among National DPP grantees using Excel data collection spreadsheets. This assessment/spreadsheet process is the formative and summative evaluation of the six grantees, and is just one of the several evaluations of National DPP activities; others include the DPRP Standards' measures and Program and Grants Office (PGO) annual grantee progress reports provided to CDC project officers.

The objective of this formative and summative evaluation of the National DPP is to collect additional information to identify program-level factors leading to successful implementation and best practices for achieving program sustainability and scalability at the community level. Informing the assessment (i.e., the Excel data collection spreadsheet) is the Reach, Effectiveness, Adoption, Implementation, and Maintenance (RE-AIM) framework that National DPP grantees were provided as part of their funding opportunity announcement in 2012. The RE-AIM framework identifies pertinent questions around process and outcome measures that the Excel data collection spreadsheets are designed to answer.

CDC plans to distribute Excel data collection spreadsheets to all six grantees, who will, in turn, disseminate the spreadsheets to their community-level intervention sites. The estimated annualized number of intervention sites is 120.

Program coordinators at each intervention site will be asked to describe their intervention, identify barriers and facilitators to implementation, and identify resources used to deliver the lifestyle change programs via a site-level spreadsheet. Project directors and managers at the grantee organizations will be asked similar questions about resource use and implementation strategies via a grantee-level spreadsheet, but will also be asked to discuss elements related to the reach of their National DPP programs. CDC will use the information gained from the assessment to discern lessons learned and effective strategies around (1) expanding the reach and sustainability of the National DPP lifestyle change programs, (2) improving recruitment and retention efforts, (3) increasing referrals, and (4) securing sustained commitment among insurance providers and employers to either reimburse organizations providing the program or providing an employee benefit option for the program so it is accessible to individuals most in need of this intervention. Finally, CDC will use the information to inform the development of data-driven technical assistance for National DPP grantees and their intervention sites.

The estimated time burden per site for completion of a site-level spreadsheet is between 30 and 60 minutes, with an average of 45 minutes per spreadsheet per year. The estimated burden for a grantee is up to 12 hours to complete a grantee-level spreadsheet. This includes coordinating the collection of spreadsheets from their respective sites. Collectively, over the three-year clearance period being requested, the total burden estimate is based on 120 annualized responses from National DPP Intervention Sites (110 + 120 + 130/3) and 6 annualized responses from National DPP Grantees (6 + 6 + 6/3). OMB approval is requested for 3 years. All information will be collected electronically. Participation is voluntary and there are no costs to respondents other than their time.

The total estimated annualized burden hours are 162.

Estimated Annualized Burden Hours
Type of respondents | Form name | Number of respondents | Number of responses per respondent | Average burden per response (in hours)
National DPP Intervention Sites | Spreadsheet for National DPP Intervention Sites | 120 | 1 | 45/60
National DPP Grantees | Spreadsheet for National DPP Grantees | 6 | 1 | 12

Leroy A. Richardson,
Chief, Information Collection Review Office, Office of Scientific Integrity, Office of the Associate Director for Science, Office of the Director, Centers for Disease Control and Prevention.

[FR Doc. 2015-22672 Filed 9-8-15; 8:45 am]

BILLING CODE 4163-18-P